DEPARTMENT OF STATE

[Public Notice: 10340]

Bureau of International Security and Nonproliferation; Determinations Regarding Use of Chemical Weapons by North Korea Under the Chemical and Biological Weapons Control and Warfare Elimination Act of 1991

AGENCY: Department of State.

ACTION: Notice.

SUMMARY: The United States Government has determined that the Government of North Korea has used chemical weapons in violation of international law or lethal chemical weapons against its own nationals. The following is notice of sanctions to be imposed as required by law.

DATES: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Sections 306(a), 307(a), and 307(d) of the Chemical and Biological Weapons Control and Warfare Elimination Act of 1991, as amended (22 U.S.C. 5604(a) and Sec 5605(a)), on February 22, 2018 the Secretary of State determined that the Government of North Korea has used chemical weapons in violation of international law or lethal chemical weapons against its own nationals. As a result, the following sanctions are hereby imposed:

1. Foreign Assistance: Termination of assistance to North Korea under the Foreign Assistance Act of 1961, except for urgent humanitarian assistance and food or other agricultural commodities or products.

2. Arms Sales: Termination of (a) sales to North Korea under the Arms Export Control Act of any defense articles, defense services, or design and construction services, and (b) licenses for the export to North Korea of any item on the United States Munitions List.

3. Arms Sales Financing: Termination of all foreign military financing for North Korea under the Arms Export Control Act.

4. Denial of United States Government Credit or Other Financial Assistance: Denial to North Korea of any credit, credit guarantees, or other financial assistance by any department, agency, or instrumentality of the United States Government, including the Export-Import Bank of the United States.

5. Exports of National Security-Sensitive Goods and Technology: Prohibition on the export to North Korea of any goods or technology on that part of the control list established under section 2404(c)(1) of the Appendix to Title 50.

These measures shall be implemented by the responsible departments and agencies of the United States Government and will remain in place for at least one year and until further notice.

Christopher A. Ford,
Assistant Secretary of State for International Security and Nonproliferation.

[FR Doc. 2018-04320 Filed 3-2-18; 8:45 am]

BILLING CODE 4710-27-P